DEPARTMENT OF AGRICULTURE

Forest Service

Bridger-Teton National Forest, Greys River Ranger District, Wyoming. Upper Greys Vegetation Treatment

AGENCY: Forest Service, USDA.

ACTION: Notice of intent to prepare an environmental impact statement.

SUMMARY: The analysis area of 11,855 acres is located in the Upper Greys River watershed on the Greys River Ranger District of the Bridger-Teton National Forest. It is approximately 20 miles southeast of Afton, Wyoming on the west slope of the Wyoming Range. All lands within the 11,855 acre analysis area are National Forest System lands, within Lincoln County, Wyoming. The legal description includes portions of: T30N, R116W and T29N, R116W.

DATES: Comments concerning the scope of the analysis must be received by November 15, 2007. The draft environmental impact statement is expected in February 2008 and the final environmental impact statement is expected in April 2008.

ADDRESSES: Send written comments to: District Ranger, Greys River Ranger District, P.O. Box 339, Afton, Wyoming. For further information, mail correspondence to: mailroom_r4_bridger_teton@fs.fed.us and on the subject line put only “Upper Greys River Vegetation Treatment.”

FOR FURTHER INFORMATION CONTACT: District Ranger, Greys River Ranger District, P.O. Box 339, 641 N. Washington St., Afton, Wyoming 83110, or phone (307) 886-5310.

SUPPLEMENTARY INFORMATION:

Purpose and Need for Action

The purpose of the proposed action is to attain desired vegetation conditions including increased diversity of tree age and size classes, improve the health and vigor of some mature timber stands and reduce the risk of stand replacing fire. It further reduces soil erosion and sedimentation from existing sources. A stand replacing fire is highly likely in this area due to dense, mature forests with an abundance of down dead and ladder fuels and would be apt to change the area from mature forest to grasses and forbs, damage existing seedlings, saplings and young forest. The loss of vegetation would also create conditions conducive to excess soil erosion over the landscape. The Bridger-Teton National Forest Land and Resource Management Plan (LRMP) and the 2004 Greys River Landscape Scale Assessment (LSA) have both identified opportunities for vegetation treatments to help improve resource conditions. The LSA found that the lodgepole pine vegetation in the Greys River falls outside the range of properly functioning condition and identified an opportunity to treat over 7,000 acres by 2010.

Alternative 1—Proposed Action

This proposal was developed primarily to help achieve desired conditions described in the LSA while responding to issues from previous public scoping, changes in resource demand, and recently identified resource issues. It is designed to improve Forest resource conditions as identified in the LSA.

The proposal is to treat approximately 591 acres and reduce existing sediment sources within the 11,855 acre analysis area which lies in the upper Greys River drainage. The proposed action would take place from approximately 2008 through 2011 and would include:

1. Commercial harvest of approximately 591 acres of mixed conifer timber.

• Approximately 436 acres would be treated using a clearcutting silvicultural system.

• Approximately 155 acres would be treated using a selection silvicultural system to remove dead and dying trees, low vigor trees, or small groups of trees less than 2 acres in size, while retaining 40 to 70% of healthy trees in the stand.

• Approximately 4.5 miles of temporary road would be constructed and then closed and rehabilitated after use. These would be mostly short spurs to access log landing areas off the main roads. Approximately 1.5 miles of existing closed roads would be used for timber hauling and closed and rehabilitated after use.

2. Identifying segments of existing logging roads and trails, including all culverts and creek crossings, that have the potential to erode, particularly those segments that are delivering, or have the potential to deliver, sediment to stream channels and other water bodies. Restore identified areas to Elimination Class 3 and 4 (as defined in the Forest Plan). Segments of the designated road system would be reconstructed to improve drainage, reduce sediments, ensure fish passage and provide improved public safety before log hauling could occur.

3. Treating slash created from timber harvest by broadcast burn or pile burn.

All treatments are planned within Desired Future Condition (DFC) area 1B. The management emphasis for DFC 1B is scheduled wood fiber production and use, livestock production, and other commodity outputs.

Possible Alternatives

Alternative 2—No Action Alternative

This alternative is required under NEPA regulations and also serves as a baseline of information for comparison of other alternatives. Though this alternative does not respond to the purpose and need for action, it does address some issues.

Responsible Official

Jay Dunbar, District Forest Ranger, Greys River Ranger District, Afton, Wyoming.

Nature of Decision To Be Made

This decision will be whether or not to implement specific vegetation management projects and associated road improvements, as allowed in the LRMP and LSA. The decision would include any mitigation measures needed in addition to those prescribed in the LRMP.

Scoping Process

The Forest Service is seeking information, comments, and assistance from individuals, organizations, tribal governments, and federal, state, and local agencies interested in or affected by this project. In addition, comments submitted on the March 9, 2007 scoping effort will also be considered in preparation of the Draft Environmental Impact Statement. Public participation will be solicited by notifying in person and/or by mail known interested and affected publics. News releases will be used to give the public general notice. Public participation activities would include requests for written comments. The first formal opportunity to comment is to respond to this notice of intent, which initiates the scoping process (40 CFR 1501.7). Scoping includes: (1) Identifying potential issues, (2) narrowing the potential issues and identifying significant issues of those that have been covered by prior environmental review, (3) exploring alternatives in addition to No Action, and (4) identifying potential environmental effects of the proposed action and alternatives.

Preliminary Issues

The Forest Service has identified the following potential issues. Your input is especially valuable here. It will help us determine which of these merit detailed analysis. It will also help identify additional issues related to the proposed action that may not be listed here.

Issue 1—The effects of vegetative treatment on lynx foraging habitat, security cover for elk and other habitat, including Snake River cutthroat trout habitat.

Issue 2—The effects of vegetative treatment on forest health, specifically the high proportion of older age class conifer stands and declining tree condition, including high dwarf mistletoe infection levels in lodgepole pine.

Issue 3—The effects of vegetative treatment on fuel loading. High fuel loadings exist in dead and down material, as well as from recent mortality losses, due to mountain pine beetle and long-term site productivity.

Issue 4—The effects of roads and harvest activities on water quality.

Comment Requested

This notice of intent initiates the scoping process which guides the development of the environmental impact statement.

Early Notice of Importance of Public Participation in Subsequent Environmental Review

The Draft EIS (DEIS) is proposed to be filed with the Environmental Protection Agency (EPA) and to be available for public comment in the winter of 2008. At that time, the EPA will publish a notice of availability for the DEIS in the Federal Register. The comment period on the DEIS will be 45 days from the date the EPA publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Authority: 40 CFR 1501.7 and 1508.22; Forest Service Handbook 1909.15, Section 21.

Dated: October 4, 2007.
Heidi Whitlatch,
Acting District Forest Ranger.

[FR Doc. 07-5072 Filed 10-15-07; 8:45 am]

BILLING CODE 3410-11-M